NATIONAL AERONAUTICS AND SPACE ADMINISTRATION

[Notice: 13-060]

NASA Asteroid Initiative Call for Ideas

AGENCY: National Aeronautics and Space Administration.

ACTION: Notice of Public Forum.

SUMMARY: The National Aeronautics and Space Administration announces a public forum to provide a status on the agency's asteroid initiative planning and to encourage feedback and ideas from the global community and the public.

DATES: Tuesday, June 18, 2013, 9:15 a.m.-12:00 p.m. EDT.

Location: James E. Webb Auditorium.

ADDRESSES: NASA Headquarters, 300 E Street SW., Washington, DC 20546.

FOR FURTHER INFORMATION CONTACT: Jason Kessler, 202-358-1107.

SUPPLEMENTARY INFORMATION: • This meeting will be streamed live online. Viewing options will be posted at www.nasa.gov/asteroid prior to the event.

• The agenda for this meeting includes the following topics:

9:15-9:30 Welcome—Deputy Administrator Garver

9:30-9:55 White House Perspective—Tom Kalil

9:55-10:15 Asteroid Initiative—Associate Administrator Lightfoot

10:15-10:35 Target Identification and Planetary Defense—Dr. John Grunsfeld

10:35-10:50 Mission—Technology Approach—Mike Gazarik

10:50-11:05 Mission—Human Exploration—William Gerstenmaier

11:05-11:20 Extensibility—Steve Stich

11:20-11:35 Partnership and Innovative Methods—Mason Peck

11:35-11:50 Summer Engagement Calendar—TBD

This forum will be open to the public up to the seating capacity of the room.

Attendees should enter the west lobby doors of the NASA Headquarters building at 300 E Street SW., Washington, DC. Upon arrival, all participants will be required to check in at the registration table located in the lobby and show photo identification.

Registration

Individuals who plan to attend the Asteroid Initiative Forum must register online. Due to capacity limitations, a maximum of 150 registrations will be accepted. Those who intend to watch the live web stream are also encouraged to register as a virtual participant. Registration will be available starting Tuesday, May 28: www.nasa.gov/asteroid.

Check In

Any individuals who have registered to attend the Asteroid Initiative Forum should enter the west lobby doors of the NASA Headquarters building at 300 E Street SW., Washington, DC. Upon arrival, all participants will be required to check in at the registration table located in the lobby and show photo identification.

Press

News media interested in attending are required to pre-register and should contact Sarah Becky Ramsey at 202-358-1694 for additional information.

Security

Event attendees will not be required to check in at the security desk to obtain a visitor's badge. However, participants will be subject to personal inspection (e.g., passing through a metal detector), prior to entering the auditorium.

Directions

Directions to NASA Headquarters are available online at the following URL: http://www.nasa.gov/centers/hq/about/map.html.

Driving

Parking lots are located near the NASA Headquarters building. Check the local yellow pages or Internet for exact locations.

Metro

Metro stops nearest NASA Headquarters are L'Enfant Plaza (orange, blue, yellow, and green lines) and Federal Center SW (orange and blue lines).

From L'Enfant Plaza station, take the Department of Transportation exit and turn left at the top of the escalators. Head east (on School St. or E St. SW.) and south (on 4th or 6th St. SW.) to arrive at the west entrance of the NASA building near the corner of E St. SW. and 4th St. SW.

From the exit of the Federal Center SW metro station, head south on 3rd St. SW and then west on E St. SW. to arrive at the west entrance of the NASA building near the corner of E St. SW. and 4th St. SW.

William Gerstenmaier,
Associate Administrator, Human Exploration & Operations Mission Directorate.

[FR Doc. 2013-12547 Filed 5-24-13; 8:45 am]

BILLING CODE 7510-13-P